DEPARTMENT OF THE TREASURY

Agency Information Collection Activities; Submission for OMB Review; Comment Request; Fiscal Service Schedule of Excess Risks

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 28, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Fiscal Service (FS)

Title: Schedule of Excess Risks.

OMB Control Number: 1530-0062.

Type of Review: Extension without change of a currently approved collection.

Description: This information is collected from insurance companies to assist the Treasury Department in determining whether a certified or applicant company is solvent and able to carry out its contracts, and whether the company is in compliance with Treasury excess risk regulations for writing Federal surety bonds.

Form: FS Form 285-A.

Affected Public: Businesses and for-profit institutions.

Estimated Number of Respondents: 20 new applications, 263 renewals.

Frequency of Response: Once, Quarterly.

Estimated Total Number of Annual Responses: 20 new applications, 1,052 renewals.

Estimated Time per Response: 20 hours for new applications, 5 hours for renewals.

Estimated Total Annual Burden Hours: 5,660 hours.

Authority: 44 U.S.C. 3501 et seq.

Dated: September 22, 2021.
Molly Stasko,
Treasury PRA Clearance Officer.

[FR Doc. 2021-20968 Filed 9-27-21; 8:45 am]

BILLING CODE 4810-AS-P